DEPARTMENT OF TRANSPORTATION

Notice of Request for Extension of a Currently Approved Information Collection

AGENCY: Office of the Secretary, DOT.

ACTION: Notice and request for comments.

SUMMARY: In accordance with the Paperwork Reduction Act of 1995 (44 U.S.C. Chapter 35, as amended) this notice announces the Department of Transportation's DOT's intention to request an extension for a currently approved information collection.

DATES: Comments on this notice must be received by June 16, 2000.

ADDRESSES: Comments should be sent to the EAS and Domestic Analysis Division (X-53), Office of Aviation Analysis, Office of the Secretary, U.S. Department of Transportation, 400 7th Street, SW., Washington, DC 20590-0002.

FOR FURTHER INFORMATION CONTACT: Mr. Luther Dietrich or Mr. Dennis DeVany, Office of the Secretary, Office of Aviation Analysis, X-53, Department of Transportation, at the address above. Telephone: (202) 366-1046/1061.

SUPPLEMENTARY INFORMATION: Title: Air Carrier's Claim for Subsidy and Air Carrier's Report of Departures Flown in Scheduled Service.

OMB Control Number: 2106-0044.

Expiration Date: September 30, 2000.

Type of Request: Extension for a currently approved information collection.

Abstract: In 14 CFR 271 of its Aviation Economic Regulations, the Department provided that subsidy to air carriers for providing essential air service will be paid to the carriers monthly, and that payments will vary according to the actual amount of service performed during the month. The reports of subsidized air carriers of essential air service performed on the Department's Forms 397, “Air Carrier's Report of Departures Flown in Schedule Service” (formerly “Air Carrier's Report of Revenue/Seat Miles Flown in Scheduled Service”), and 398, “Air Carrier's Claim for Subsidy,” establish the fundamental basis for paying these air carriers on a timely basis. Typically, subsidized air carriers are small businesses and operate only aircraft of limited size over a limited geographical area. The collection permits subsidized air carriers to submit their monthly claims in a concise, orderly, easy-to-process form, without having to devise their own means of submitting support for these claims.

The collection involved here requests only information concerning the subsidy-eligible flights (which generally constitute only a small percentage of the carriers' total operations) of a small number of air carriers. The collection permits the Department to timely pay air carriers for providing essential air service to certain eligible communities that would not otherwise receive scheduled passenger air service.

Respondents: Small air carriers selected by the Department in docketed cases to provide subsidized essential air service.

Estimated Number of Respondents: 21.

Average Annual Burden per Respondent: 278 hours.

Estimated Total Burden on Respondents: 5,838 hours.

This information collection is available for inspection at the EAS and Domestic Analysis Division (X-53), Office of Aviation Analysis, DOT, at the address above. Copies of 14 CFR 271 can be obtained from Mr. Luther Dietrich at the address and telephone number shown above.

Comments are invited on: (a) Whether the proposed collection of information is necessary for the proper functioning of the Department, including whether the information will have practical utility; (b) the accuracy of the Department's estimate of the burden of the proposed information collection; (c) ways to enhance the quality, utility, and clarity of the information to be collected; and (d) ways to minimize the burden of the collection of information on respondents, including the use of automated collection techniques or other forms of information technology.

All responses to this notice will be summarized and included in the request for OMB approval. All comments will also become a matter of public record.

Issued in Washington, DC, on April 11, 2000.
Randall D. Bennett,
Acting Director, Office of Aviation Analysis.

[FR Doc. 00-9552 Filed 4-14-00; 8:45 am]

BILLING CODE 4910-62-P